DEPARTMENT OF THE INTERIOR

Bureau of Land Management

[AZ-030-1210-NJ]

Vehicular Road Closure to Motorized Public Access on Selected Public Lands in Mohave County, AZ

AGENCY: Bureau of Land Management, Interior.

ACTION: Notice of closure.

SUMMARY: Closure of approximately 0.50 miles of access road, south of the main road, that historically accessed the now closed Mohave County refuse transfer station South of Truxton in T 24N R 12W sec 11, Gila and Salt River Baseline and Meridian within the Kingman Field Office Mohave County, Arizona. This action is intended to prevent motorized access to an area known for the frequent dumping of household and industrial waste, and to prevent further erosion and environmental damage to the adjacent wash.

DATES: Road Closure is effective immediately and extends until June 21, 2004.

SUPPLEMENTARY INFORMATION: In June, 2002, the Bureau of Land Management spent in excess of $30,000 removing hazardous materials and related debris from a trash dump at the end of this access road. Furthermore, this action is taken to prevent further degradation of environmental resources due to the illegal dumping of household waste, industrial waste, and hazardous materials. Exceptions to this closure include motorized vehicle use for administrative and emergency purposes and for authorized permittees. The authorized officer may issue a written authorization allowing motorized access for specific purposes. This closure is in accordance with provisions of the Federal Land Policy and Management Act of 1976 (43 U.S.C. 1701) and 43 CFR 8364.1. The authority for this restriction is provided in 43 CFR 8364.1(a). Persons who violate this restriction are subject to arrest and, upon conviction, may be fined up to $100,000.00 and/or imprisoned for not more than 12 months as amended by 18 U.S.C. 3571 and 18 U.S.C. 3581.

FOR FURTHER INFORMATION CONTACT: Bob Hall, Public Affairs Specialist, (928) 692-4454 Bureau of Land Management, Kingman Field Office, 2475 Beverly Ave., Kingman AZ, 86401.

Dated: June 24, 2002.
John Christensen,
Kingman Field Office Manager.

[FR Doc. 03-9375 Filed 4-16-03; 8:45 am]

BILLING CODE 4310-AG-P